DEPARTMENT OF ENERGY

Federal Energy Regulatory Commission

[Docket No. RP04-179-004]

National Fuel Gas Supply Corporation; Notice of Compliance Filing

July 21, 2004.

Take notice that on July 1, 2004, National Fuel Gas Supply Corporation (National Fuel) tendered for filing a non-conforming Service Agreement Nos. F10702, F10703, F10704, F10705, and F10706 between National Fuel and Fortuna Energy Inc. National Fuel states that the filing is being made to comply with the Commission's order issued on March 31, 2004 in Docket No. RP04-179-000.

National Fuel states that copies of the filing are being mailed to all of National Fuel's customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Protest Date: 5 p.m. eastern time on July 28, 2004.

Magalie R. Salas,
Secretary.

[FR Doc. E4-1668 Filed 7-27-04; 8:45 am]

BILLING CODE 6717-01-P